DEPARTMENT OF THE INTERIOR

National Park Service

[NPS-WASO-NRNHL-15728; PPWOCRADI0, PCU00RP14.R50000]

National Register of Historic Places; Notification of Pending Nominations and Related Actions

Nominations for the following properties being considered for listing or related actions in the National Register were received by the National Park Service before May 2, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by June 4, 2014. Before including your address, phone number, email address, or other personal identifying information in your comment, you should be aware that your entire comment—including your personal identifying information—may be made publicly available at any time. While you can ask us in your comment to withhold your personal identifying information from public review, we cannot guarantee that we will be able to do so.

Dated: May 5, 2014.
Alexandra Lord,
Acting Chief, National Register of Historic Places/, National Historic Landmarks Program.

CALIFORNIA

Los Angeles County

Villa Carlotta, 234 E. Mendocino St., Altadena, 14000303

Monterey County

Connell, Arthur and Kathleen, House, 1170 Signal Hill Rd., Pebble Beach, 14000304

Fort Ord Station Veterinary Hospital, 2872 5th Ave., Marina, 14000305

Santa Clara County

Century 21 Theater, 3161 Olsen Dr., San Jose, 14000306

Sonoma County

Pond Farm Pottery Historic District, 17000 Armstrong Woods Rd., Guerneville, 14000307

LOUISIANA

Bienville Parish

Arcadia Colored High School Historic District, 6th St. between Crawford Ave. & Napoleon St., Arcadia, 14000308

Calcasieu Parish

Noble Building, 324 Pujo St., Lake Charles, 14000310

Natchitoches Parish

Northwestern State University Historic District, Roughly bounded by University Pkw., Harry Turpin Stadium, Fournet Quad., Cadwell & Sam Sibley Drs., Central Ave., Natchitoches, 14000313

Orleans Parish

Curtis, Nathaniel C., Jr. & Frances, House, 6161 Marquette Pl., New Orleans, 14000311

International Trade Mart, 2 Canal St., New Orleans, 14000312

Pythian Temple, 234 Loyola Ave., New Orleans, 14000309

Schwegmann Bros. Giant Supermarket No. 1, 222 St. Claude Ave., New Orleans, 14000314

St. Bernard Parish

Ducros, Dr. Louis A., House, 1345 Bayou Ave., St. Bernard, 14000315

NEW YORK

Ulster County

Brown—Ellis House, 382 Crescent Ave., Highland, 14000316

[FR Doc. 2014-11569 Filed 5-19-14; 8:45 am]

BILLING CODE 4312-51-P